DEPARTMENT OF THE INTERIOR

[FWS-R4-ES-2019-N104; FVHC98220410150-XXX-FF04H00000]

Deepwater Horizon Oil Spill Alabama Trustee Implementation Group Draft Restoration Plan III and Environmental Assessment: Birds and Provide and Enhance Recreational Opportunities

AGENCY: Department of the Interior.

ACTION: Notice of availability; request for public comments.

SUMMARY: In accordance with the Oil Pollution Act of 1990 (OPA), the National Environmental Policy Act of 1969 (NEPA), the Deepwater Horizon Oil Spill Final Programmatic Damage Assessment Restoration Plan and Final Programmatic Environmental Impact Statement, Record of Decision, and Consent Decree, the Federal and State natural resource trustee agencies for the Alabama Trustee Implementation Group (AL TIG) have prepared a draft restoration plan and environmental assessment entitled Alabama Trustee Implementation Group Draft Restoration Plan III/Environmental Assessment: Provide and Enhance Recreational Opportunities, and Birds (RP III/EA), analyzing a reasonable range of alternatives to help restore natural resources and the services they provide that were injured in the Alabama Restoration Area as a result of the Deepwater Horizon oil spill. The alternatives considered in the draft RP III/EA include five preferred by the AL TIG for implementation to address lost recreational use, and two preferred for the restoration of birds. We invite public comment on the draft RP III/EA.

DATES: Submitting Comments: We will consider public comments on the draft RP III/EA received on or before October 3, 2019.

Public meeting: The AL TIG will host an open house public meeting on September 11, 2019, in conjunction with the AL TIG's annual meeting. The meeting will begin at 6 p.m. at the Five Rivers Tensaw Theater, located at 30945 Five Rivers Boulevard in Spanish Fort, Alabama.

ADDRESSES: Obtaining Documents: You may download the draft RP III/EA from either of the following websites:

• https://www.doi.gov/deepwaterhorizon/adminrecord.

• https://www.gulfspillrestoration.noaa.gov/restoration-areas/alabama.

Alternatively, you may request a CD of the draft RP III/EA (see FOR FURTHER INFORMATION CONTACT). Copies of the draft RP III/EA are also available for review during the public comment period at the following locations:

Location | Address | City | Zip
Dauphin Island Sea Laboratory, Admin Building | 101 Bienville Boulevard | Dauphin Island | 36528
Thomas B. Norton Public Library | 221 West 19th Avenue | Gulf Shores | 36542
Alabama Department of Conservation and Natural Resources, State Lands Division, Coastal Section Office | 31115 Five Rivers Boulevard | Spanish Fort | 36527
Weeks Bay National Estuarine Research Reserve | 11300 U.S. Highway 98 | Fairhope | 36532
Mobile Public Library, West Regional Library | 5555 Grelot Road | Mobile | 36609

Submitting Comments: You may submit comments on the draft RP III/EA by one of the following methods:

• Via the Web: https://www.gulfspillrestoration.noaa.gov/restoration-areas/alabama.

• Via U.S. Mail: U.S. Fish and Wildlife Service, P.O. Box 29649, Atlanta, GA 30345. In order to be considered, mailed comments must be postmarked on or before the comment deadline given in DATES.

• During the public meeting: Oral and written comments may be provided during the public meeting on September 11, 2019.

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over one million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the completion of restoration to baseline (the resource quality and conditions that would exist if the spill had not occurred).

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the Trustees reached and finalized a settlement of their natural resource damage claims with BP in a Consent Decree approved by the United States District Court for the Eastern District of Louisiana. Pursuant to that Consent Decree, restoration projects in the Alabama Restoration Area are now chosen and managed by the AL TIG. The AL TIG comprises the following Trustees: State of Alabama Department of Conservation and Natural Resources and Geological Survey of Alabama; DOI; NOAA; EPA; and USDA.

Background

In preparation for the draft RP III/EA planning process, on December 19, 2018, the AL TIG posted a notice on two websites: the NOAA Gulf Spill web portal at http://www.gulfspillrestoration.noaa.gov, and the Alabama Department of Conservation and Natural Resources Project Portal at http://www.alabamacoastalrestoration.org/. The notice requested public input on restoration project ideas in the Alabama Restoration Area, asking the public to focus their input on “Provide and Enhance Recreational Opportunities” and “Birds” restoration types The AL TIG reviewed and considered these restoration project ideas.

Overview of the AL TIG Draft RP III/EA

The draft RP III/EA is being released in accordance with OPA NRDA regulations found in the Code of Federal Regulations (CFR) at 15 CFR part 990, NEPA and its implementing regulations found at 40 CFR parts 1500-1508, the Final PDARP/PEIS, and the Consent Decree. The draft RP III/EA provides OPA and NEPA analyses for a reasonable range of alternatives, addressing two restoration types: “Provide and Enhance Recreational Opportunities” and “Birds”. The draft RP III/EA evaluates a total of 10 alternatives, seven of which are preferred (see table below). The AL TIG proposes to implement the preferred alternatives using approximately $26.6 million in DWH settlement funds in accordance with the Consent Decree.

Alternatives | Preferred Y/N
Restoration Type—Provide and Enhance Recreational Opportunities
Perdido River Land Acquisition (Molpus Tract) | Y
Bayfront Park Restoration and Improvement Phases IIa and IIb | Y
Bayfront Park Restoration and Improvement Phase IIa | N
Gulf State Park Pier Renovation | Y
Perdido Beach Public Access Coastal Protection | Y
Bon Secour National Wildlife Refuge Recreation Enhancement—Mobile Street Boardwalk | Y
Bon Secour National Wildlife Refuge Recreation Enhancement—Centennial Trail Boardwalk | N
Restoration Type—Birds
Stewardship of Coastal Alabama Beach Nesting Bird Habitat | Y
Stewardship of Coastal Alabama Beach Nesting Bird Habitat—Stewardship and Monitoring Only | N
Dauphin Island West End Acquisition | Y

Next Steps

As described above, the Trustees will hold a public meeting to facilitate the public review and comment process. After the public comment period ends, the Trustees will consider and address the comments received before issuing a final RP III/EA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the RP III/EA can be viewed electronically at https://www.doi.gov/deepwaterhorizon/adminrecord.

Authority

The authority of this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Department of the Interior, Director, Gulf of Mexico Restoration.

[FR Doc. 2019-18920 Filed 8-30-19; 8:45 am]

BILLING CODE 4333-15-P